DEPARTMENT OF COMMERCE

National Institute of Standards and Technology

Notice of Jointly Owned Invention Available for Licensing

AGENCY: National Institute of Standards and Technology, Commerce.

ACTION: Notice of jointly owned invention available for licensing.

SUMMARY: The invention listed below is jointly owned by the U.S. Government, as represented by the Department of Commerce, and Biospace, Inc. The Department of Commerce's interest in the invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Teresa Bradshaw, Building 820, Room 213, Gaithersburg, MD 20899. Information is also available via telephone: (301) 975-2624 , fax (301) 869-2751, or e-mail: teresa.bradshaw@nist.gov. Any request for information should include the NIST Docket number and title for the invention as indicated below.

SUPPLEMENTARY INFORMATION: NIST may enter into a Cooperative Research and Development Agreement (“CRADA”) with the licensee to perform further research on the invention for purposes of commercialization. The invention available for licensing is:

NIST Docket Number: 01-015

Title: Applying X-ray Topography and Diffractometry to Improve Protein Crystal Growth.

Abstract: The present invention provides a general method and system for identifying conditions for growing protein crystals having greater order and fewer crystal defects that are suitable for use in determining the structure of the protein by x-ray diffractometry. Crystals of a protein are grown under different sets of predetermined conditions and x-ray topographic images of the protein crystals are generated. The x-ray topographic images reveal defects in the crystals and permit identification of the set(s) of conditions that produce crystals having the fewest crystal defects. In a preferred embodiment, the protein crystals are grown in a dynamically controlled crystallization system (DCCS). An important condition of crystal growth that can be optimized by the method is the effective gravity, geff, experienced by the growing crystal; for example, when the crystal is grown under microgravity in space, or in a powerful magnetic field that causes the protein molecules in the growing crystal to experience acceleration of an effective gravitational field that is greater or less than the actual gravitational field at the earth's surface. With the present method, it is possible to identify differences between crystals grown on the earth with the DCCS and those grown in space under identical conditions. A comparison of x-ray topographs taken from both earth grown and space grown crystals indicates that the space grown crystals are of higher crystallographic perfection.

Dated: January 5, 2005.
Hratch G. Semerjian,
Acting Director.

[FR Doc. 05-544 Filed 1-11-05; 8:45 am]

BILLING CODE 3510-13-P